DEPARTMENT OF THE INTERIOR

Bureau of Land Management

[NV-040-07-5101-ER-F344; N-78091]

Notice of Availability of the Final Environmental Impact Statement for a Proposed Coal-Fired Electric Power Generating Plant in Eastern White Pine County, NV

AGENCY: Bureau of Land Management, Interior.

ACTION: Notice of availability.

SUMMARY: Pursuant to Section 102(2)(C) of the National Environmental Policy Act (NEPA) of 1969, a Final Environmental Impact Statement (Final EIS) has been prepared by the Bureau of Land Management (BLM), Ely Field Office for the White Pine Energy Station (WPES) and is now available. This document evaluates the environmental effects of constructing a coal-fired electric power generating plant (up to 1,600-megawatts) and associated features on public lands in White Pine County, Nevada.

DATES: The Final EIS will be available for review until November 3, 2008, which is 30 days following the date the EPA published their notice in the Federal Register, [73 FR 57620].

ADDRESSES: The Final EIS and associated documents will be available for review in hard copy and on compact disk at the following locations:

—University of Nevada-Reno, Getchell Library, Government Publication Dept., Reno, NV 89507

—Washoe County Library, 301 South Center Street, Reno, NV 89501

—White Pine County Library, 950 Campton Street, Ely, NV 89301

—Clark County Library, 1401 E. Flamingo Rd., Las Vegas, NV 89119

A limited number of copies of the document will be available at the following BLM offices:

—Elko Field Office, 3900 Idaho Street, Elko, NV 89801

—Carson City Field Office, 5665 Morgan Mill Road, Carson City, NV 89701

—Ely Field Office, 702 North Industrial Way, Ely, NV 89301-9408

—Nevada State Office, 1340 Financial Boulevard, Reno, NV 89502-7147

—Washington Office of Public Affairs, 18th and C Street, NW., Washington, DC 20240

The entire document can also be reviewed or downloaded at the Ely BLM Field Office Web site http://www.blm.gov/nv/st/en/fo/ely_field_office.

FOR FURTHER INFORMATION CONTACT: Doris Metcalf, 775-289-1852.

SUPPLEMENTARY INFORMATION: The Final EIS addresses alternatives to resolve the following major issues: ground water, air quality, visual resources, biological resources, and socioeconomic effects.

The Proposed Action includes the following actions: coal-fired power plant site right-of-way (ROW), transmission line alignment and substations ROW, well field and water line ROW, railroad spur ROW, and access roads ROW. The Proposed Action includes the following project actions and features: issue ROWs for White Pine Energy Station construction and operation and subsequently arrange for the sale of the power plant site to White Pine Energy Associates; construct, operate, and maintain an up to 1,600-megawatt (maximum) coal-fired electric power generating plant using hybrid cooling systems with an expected commercial life of 50 years or longer; develop a well field in the Steptoe Valley Hydrographic Basin to meet the water needs of the power plant; construct a new rail spur from the Nevada Northern Railway to the power plant site to supply coal; develop the linear infrastructure necessary to connect the power plant to the new water source, to existing electric transmission lines serving the region, and to provide site access; and implement a seeding project to enhance the grazing and wildlife value of 700 to 900 acres.

The BLM issued the Notice of Availability of the Draft Environmental Impact Statement for a Proposed Coal-Fired Electric Power Generating Plant in Eastern White Pine County and Notice of Public Meetings; Nevada, in the Federal Register on April 20, 2007, with a 60-day public comment period. The BLM held two public meetings, one in Ely, Nevada and one in Reno, Nevada. At the request of environmental group representatives, BLM held an informational meeting in Las Vegas, Nevada. In preparing the Final EIS BLM responded to more than 514 comments received during the Draft EIS public review period. Comment responses and resultant changes in the impact analysis are documented in the Final EIS. The BLM will prepare a Record of Decision for the EIS 30 days following EPA's publication of this notice in the Federal Register.

John F. Ruhs,
Field Manager.

[FR Doc. E8-24508 Filed 10-14-08; 8:45 am]

BILLING CODE 4310-HC-P